DEPARTMENT OF COMMERCE

National Oceanic and Atmospheric Administration

RIN 0648-XT33

Western Pacific Crustacean Fisheries; 2010 Northwestern Hawaiian Islands Lobster Harvest Guideline

AGENCY: National Marine Fisheries Service (NMFS), National Oceanic and Atmospheric Administration (NOAA), Commerce.

ACTION: Notification of lobster harvest guideline.

SUMMARY: NMFS announces that the annual harvest guideline for the commercial lobster fishery in the Northwestern Hawaiian Islands (NWHI) for calendar year 2010 is established at zero lobsters.

FOR FURTHER INFORMATION CONTACT: Bob Harman, NMFS Pacific Islands Region, 808-944-2271.

SUPPLEMENTARY INFORMATION: The NWHI commercial lobster fishery is managed under the Fishery Management Plan for Crustacean Fisheries of the Western Pacific Region. The regulations at 50 CFR 665.50(b)(2) require NMFS to publish an annual harvest guideline for lobster Permit Area 1, comprised of Federal waters around the NWHI.

Regulations governing the Papahanaumokuakea Marine National Monument in the NWHI prohibit the unpermitted removal of monument resources (50 CFR 404.7), and establish a zero annual harvest guideline for lobsters (50 CFR 404.10(a)). Accordingly, NMFS establishes the harvest guideline at zero lobsters for the NWHI commercial lobster fishery for calendar year 2010. Thus, no harvest of NWHI lobster resources is allowed.

Furthermore, the NMFS Regional Administrator determined that all 15 NWHI lobster limited entry permits held by vessel owners (i.e., permit holders) are no longer valid. This action complies with the final rule governing compensation to Federal commercial bottomfish and lobster fishermen due to fishery closures in the Monument (74 FR 47119, September 15, 2009). During December 2009 and January 2010, eligible NWHI lobster permit holders voluntarily accepted and received monetary payments, as authorized by Congress under the Consolidated Appropriations Act of 2008 (P.L. 110-161). Thus, no fishing for NWHI lobster resources is allowed.

Authority: 16 U.S.C. 1801 et seq.

Dated: January 6, 2010.
Emily H. Menashes,
Acting Director, Office of Sustainable Fisheries, National Marine Fisheries Service.

[FR Doc. 2010-388 Filed 1-11-10; 8:45 am]

BILLING CODE 3510-22-S